DEPARTMENT OF COMMERCE

National Oceanic and Atmospheric Administration

[I.D. 031301C]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Plan Development Team (HMSPDT) will hold a work session, which is open to the public.

DATES: The HMSPDT will meet on Monday, April 9, through Friday, April 13, 2001. See SUPPLEMENTARY INFORMATION for specific dates and times.

ADDRESSES: The work session will be held in the large conference room at NMFS Southwest Fisheries Science Center, 8604 La Jolla Shores Drive, Room D-203, La Jolla, CA 92038-0271;, telephone: (619) 546-7000.

Council address: Pacific Fishery Management Council, 2130 SW Fifth Avenue, Suite 224, Portland, OR 97201.

FOR FURTHER INFORMATION CONTACT: Dan Waldeck, Pacific Fishery Management Council; telephone: (503) 326-6352.

SUPPLEMENTARY INFORMATION: The HMSPDT will meet on Monday, April 9, 2001, 8 a.m. to 5 p.m.; Tuesday, April 10, 2001, 8 a.m. to 5 p.m.; Wednesday, April 11, 2001, 8 a.m. to 5 p.m.; Thursday, April 12, 2001, 8 a.m. to 5 p.m.; and Friday, April 13, 2001, 8 a.m. until business for the day is completed.

The primary purpose of the work session is to revise the draft fishery management plan (FMP) for highly migratory species (HMS) per Council guidance stemming from the March 2001 Council meeting. The second draft of the FMP is scheduled for review at the June 2001 Council meeting.

Although nonemergency issues not contained in the HMSPDT meeting agenda may come before the HMSPDT for discussion, those issues may not be the subject of formal HMSPDT action during this meeting. HMSPDT action will be restricted to those issues specifically listed in this document and any issues arising after publication of this document that require emergency action under section 305(c) of the Magnuson-Stevens Act, provided the public has been notified of the HMSPDT's intent to take final action to address the emergency.

Special Accommodations

The meeting is physically accessible to people with disabilities. Requests for sign language interpretation or other auxiliary aids should be directed to Ms. Carolyn Porter at (503) 326-6352 at least 5 days prior to the meeting date.

Dated: March 13, 2001.
Richard W. Surdi,
Acting Director, Office of Sustainable Fisheries, National Marine Fisheries Service.

[FR Doc. 01-6639 Filed 3-16-01; 8:45 am]

BILLING CODE 3510-22-S